DEPARTMENT OF LABOR

Office of the Secretary

[Secretary's Order 03-2012]

Delegation of Authority and Assignment of Responsibility to the Director, Office of Labor-Management Standards

1. Purpose. To delegate authority and assign responsibility to the Director, Office of Labor-Management Standards.

2. Authorities. This Order is issued under the authority of 5 U.S.C. 301 (Departmental Regulations); 29 U.S.C. 551 et seq. (Establishment of Department; Secretary; Seal); Reorganization Plan No. 6 of 1950 (5 U.S.C. App 1 Reorg. Plan 6 of 1950); and the authorities cited in Section 5 of this Order.

3. Directives Affected. Secretary's Order 8-2009 is hereby cancelled.

4. Background. On November 8, 2009, the Department of Labor reorganized its organization structure, dissolving the Employment Standards Administration (ESA). ESA had been headed by the Assistant Secretary of Labor for Employment Standards (“Assistant Secretary”). With the dissolution of ESA, its sub-agencies, including the Office of Labor-Management Standards (OLMS) became separate agencies—headed by a Director. Secretary's Order 8-2009 (Section 5) delegated authorities and responsibilities previously held by the Assistant Secretary of ESA to the Director of OLMS. This Order cancels Secretary's Order 8-2009. The Secretary delegated authority and assigned responsibilities to the ARB to review recommended decisions by administrative law judges and issue final agency decisions under the statutes and regulations enumerated in Sections 5(A)(1) and (2) of this Order. See Secretary's Order 02-2012.

5. Delegation of Authority and Assignment of Responsibilities.

A. The Director, Office of Labor-Management Standards is hereby delegated authority and assigned responsibility, except as hereinafter provided, for carrying out the employment standards, labor standards, and labor-management standards policies, programs, and activities of the Department of Labor, including those functions to be performed by the Secretary of Labor under the designated provisions of the following statutes:

(1) The Labor-Management Reporting and Disclosure Act of 1959, as amended, 29 U.S.C. § 401, et seq.; with the exception of the authority under 29 U.S.C. 481(h) granted to the Administrative Review Board in Secretary's Order 02-2012. If, in the course of investigations under the Labor-Management Reporting and Disclosure Act, there appear to be indications of organized crime and labor racketeering, the Director of OLMS shall promptly notify the Inspector General, who also has statutory authority to investigate such issues. The Inspector General shall have the power to assume the lead in further investigative activities arising from such case with respect to issues involving organized crime and labor racketeering.

(2) Section 701 (Standards of Conduct for Labor Organizations) of the Civil Service Reform Act of 1978 (5 U.S.C. § 7120), Section 1017 of the Foreign Service Act of 1980 (22 U.S.C. § 4117), and Section 220(a)(1) of the Congressional Accountability Act of 1995 (2 U.S.C. 1351(a)(1)), and the regulations pertaining to such sections at 29 CFR parts 457-459; with the exception of the authority granted to the Administrative Review Board in Secretary's Order 02-2012.

(3) Section 1209 of the Postal Reorganization Act of 1970, 39 U.S.C. § 1209.

(4) The employee protection provisions of the Federal Transit law, as codified at 49 U.S.C. 5333(b), and related provisions.

(5) The employee protection provisions certified under Sections 405(a), (b), (c), and (e) of the Rail Passenger Service Act of 1970, 45 U.S.C. 565(a), (b), (c), and (e).

(6) Executive Order 13496 (Notification of Employee Rights Under Federal Labor Laws) of January 30, 2009.

(7) Section 211(a) of the Labor Management Relations Act, 29 U.S.C. 181(a) (“Compilation of Collective Bargaining Agreements, etc.; Use of Data”).

(8) Such additional Federal acts that from time to time may assign to the Secretary or the Department of Labor duties and responsibilities similar to those listed under subparagraphs (1)-(7) of this paragraph, as directed by the Secretary.

B. The Solicitor of Labor is delegated authority and assigned responsibility for providing legal advice and assistance to all officers of the Department relating to the administration of the statutory provisions, regulations, and Executive Orders listed above. The bringing of legal proceedings under those authorities, the representation of the Secretary and/or other officials of the Department of Labor, and the determination of whether such proceedings or representations are appropriate in a given case, are delegated exclusively to the Solicitor.

6. Reservation of Authority and Responsibility.

A. The submission of reports and recommendations to the President and the Congress concerning the administration of the statutory provisions and Executive Orders listed above is reserved to the Secretary.

B. Nothing in this Order shall limit or modify the delegation of authority and assignment of responsibility to the Administrative Review Board by Secretary's Order 02-2012.

C. Except as expressly provided in Section 5, nothing in this Order shall limit or modify the provisions of any other Order, including Secretary's Order 4-2006 (Office of Inspector General).

7. Redelegation of Authority. Except as otherwise provided by law, all of the authorities delegated in this Order may be redelegated.

8. Effective Date. This Order shall become effective immediately.

Dated: October 19, 2012.
Hilda L. Solis,
Secretary of Labor.

[FR Doc. 2012-27803 Filed 11-15-12; 8:45 am]

BILLING CODE 4510-23-P